DEPARTMENT OF LABOR

Employment and Training Administration

[TA-W-82,598]

Amphenol Backplane Systems, Nashua, New Hampshire; Notice of Affirmative Determination Regarding Application for Reconsideration

By application dated June 24, 2013, workers requested administrative reconsideration of the negative determination regarding workers' eligibility to apply for Trade Adjustment Assistance (TAA) applicable to workers and former workers of Amphenol Backplane Systems, Nashua, New Hampshire (subject firm). The negative determination was issued on June 14, 2013 and the Department's Notice of determination was published in the Federal Register on July 2, 2013 (78 FR 39774). Workers at the subject firm were engaged in activities related to the production of electrical connectors and backplane assemblies.

The initial investigation resulted in a negative determination based on the Department's findings that sales and production at the subject firm increased during that period; that there was no shift in production to a foreign country or acquisition of production from a foreign country; that imports by the subject firm have decreased; that Amphenol Backplane Systems, Nashua, New Hampshire, is neither a Supplier nor Downstream Producer to a firm that employed a group of workers who received a certification of eligibility under Section 222(a) of the Act, 19 U.S.C. 2272(a); and that the workers' firm has not been publicly identified by name by the International Trade Commission as a member of a domestic industry in an investigation resulting in an affirmative finding of serious injury, market disruption, or material injury, or threat thereof.

The request for reconsideration alleges a shift in production/services to a foreign country, that the subject firm increased imports, that the subject firm experienced a loss of business with a TAA-certified firm, that the subject firm has factories in Mexico and China.

The Department has carefully reviewed the request for reconsideration and the existing record, and will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 22nd day of July 2013.
Del Min Amy Chen,
Certifying Officer, Office of Trade Adjustment Assistance.

[FR Doc. 2013-18489 Filed 7-31-13; 8:45 am]

BILLING CODE 4510-FN-P